DEPARTMENT OF AGRICULTURE

Submission for OMB Review; Comment Request

August 26, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology.

Comments regarding this information collection received by October 2, 2014 will be considered. Written comments should be addressed to: Desk Officer for Agriculture, Office of Information and Regulatory Affairs, Office of Management and Budget (OMB), New Executive Office Building, 725—17th Street NW., Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Research Service

Title: Supplemental Nutrition Assistance Program Education Connection Resource Sharing Form

OMB Control Number: 0518-0031

Summary of Collection: In 2001, the United States Department of Agriculture's (USDA) Food and Nutrition Service established the Food Stamp Nutrition Connection to improve access to the Food Stamp Program Education resources. In 2008, the Web site was renamed to the Supplemental Nutrition Assistance Program Education (SNAP-Ed) Connection. The Web site is developed and maintained at the National Agricultural Library's (NAL) Food and Nutrition Information Center (FNIC). The SNAP-Ed Connection is a resource Web site for SNAP-Ed administrators and educators. SNAP-Ed personnel use the SNAP-Ed Connection Web site to locate curricula, participant materials, nutrition research, administrative documents, and information regarding SNAP-Ed program development, implementation and evaluation. The authority for NAL to collect this information is contained in the CFR, Title 7, Volume 1, Part 2, Subpart K, Sec. 2.65 (92).

Need and Use of the Information: SNAP-ED Connection staff members use information collected by the Resource Sharing Form to build and constantly enhance the online database of nutrition education and training materials known as the Resource Finder Database. SNAP-Ed providers access and use the database to identify and obtain curricula, lesson plan, research, training tools and participant materials. Vital information about these resources, such as a description of the resource, its creator, publisher and ordering information is collected using the Resource Sharing Form. Failure to collect this information would significantly inhibit SNAP-Ed Connection ability to provide up-to-date information on existing nutrition education materials that are appropriate for SNAP-Ed programs and providers.

Description of Respondents: Business or other for-profit; Not-for-profit institutions; State, Local or Tribal Government.

Number of Respondents: 170.

Frequency of Responses: Reporting: On occasion.

Total Burden Hours: 133.

Ruth Brown,
Departmental Information Collection Clearance Officer.

[FR Doc. 2014-20664 Filed 8-29-14; 8:45 am]

BILLING CODE 3410-03-P